INTERNATIONAL TRADE COMMISSION

[Investigation No. 337-TA-1318 (Modification (II))]

Certain Graphics Systems, Components Thereof, and Digital Televisions Containing the Same; Notice of Commission Determination Not To Review an Initial Determination Granting a Joint Motion to Termination a Modification Proceeding Based on a Settlement Agreement; Termination of the Modification Proceeding

AGENCY: International Trade Commission.

ACTION: Notice.

SUMMARY: Notice is hereby given that the U.S. International Trade Commission has determined not to review an initial determination (“ID”) (Order No. 79) of the presiding administrative law judge (“ALJ”) granting complainants and respondent Realtek Semiconductor Corporation's (“Realtek”) joint motion to terminate based on a settlement agreement a proceeding to modify a limited exclusion order (“LEO”) issued in the underlying investigation. The modification proceeding is terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 7, 2022, based on a complaint filed by Advanced Micro Devices, Inc. of Santa Clara, California and ATI Technologies ULC of Ontario, Canada (together, “AMD”). 87 FR 34718-19 (June 7, 2022). The complaint, as supplemented, alleges violations of section 337 of the Tariff Act of 1930, as amended, 19 U.S.C. 1337 (“section 337”), based on certain graphics systems, components thereof, and digital televisions containing the same by reason of infringement of certain claims of U.S. Patent Nos. 7,742,053; 8,760,454; 11,184,628; 8,468,547; and 8,854,381 (“the '381 patent”). Id. at 34718. The complaint further alleges that a domestic industry exists. Id. The notice of institution named 14 respondents: (1) TCL Industries Holdings Co., Ltd. of Guangdong, China; (2) TCL Industries Holdings (H.K.) Co. Limited of Hong Kong, China; (3) TCL Electronics Holdings Ltd. f/k/a TCL Multimedia Technology Holdings, Ltd. of Hong Kong, China; (4) TCL Technology Group Corporation of Guangdong, China; (5) TTE Corporation of Hong Kong, China; (6) TCL Holdings (BVI) Ltd. of Hong Kong, China; (7) TCL King Electrical Appliances (Huizhou) Co. Ltd. of Guangdong, China; (8) Shenzhen TCL New Technology Co., Ltd. of Guangdong, China; (9) TCL MOKA International Ltd. of Hong Kong, China; (10) TCL Smart Device (Vietnam) Co., Ltd. of Binh Duong Province, Vietnam; (11) Manufacturas Avanzadas SA de CV of Chihuahua, Mexico; (12) TCL Electronics Mexico, S de RL de CV of Benito Juarez, Mexico; (13) TCL Overseas Marketing Ltd. of Hong Kong, China; and (14) Realtek of Hsinchu, Taiwan. Id. at 34719, as amended, 87 FR 62452-53 (Oct. 14, 2022). The Office of Unfair Import Investigations was not named as a party to this investigation. 87 FR at 34719.

On September 26, 2022, the Commission allowed TTE Technology, Inc. of Corona, California to intervene in this investigation as an additional respondent (collectively, with all named respondents except for Realtek, “TCL”). See Order No. 17 (Aug. 30, 2022), unreviewed by Comm'n Notice (Sept. 26, 2022).

On January 24, 2024, the Commission issued a final determination finding a violation of section 337 by TCL and Realtek with respect to claims 19 and 20 of the '381 patent. 89 FR 5934-35 (Jan. 30, 2024); see Comm'n Opinion (Jan. 24, 2024). The Commission determined that the appropriate remedy is: (i) an LEO against TCL's and Realtek's infringing products and (ii) cease and desist orders (“CDOs”) against each of the TCL entities, but not against Realtek. 89 FR at 5935. The Commission also set the bond during the period of Presidential review at zero (0) percent of the entered value of the infringing articles. Id.

On March 28, 2024, Realtek filed an appeal from the Commission's final determination with the U.S. Court of Appeals for the Federal Circuit. See Realtek Semiconductor Corp. v. ITC, Appeal Nos. 24-1613. On July 1, 2024, the Federal Circuit granted Realtek's voluntary dismissal of the appeal. See id., ECF No. 28.

On June 7, 2024, based on a settlement agreement between AMD and TCL, the Commission issued a modified LEO directed only to Realtek's infringing products, and rescinded the CDOs against TCL. See Modified LEO at 1 (June 7, 2024); Comm'n Order at 6 (June 7, 2024).

On May 21, 2024, the Commission instituted a modification proceeding as to the LEO based on a changed condition of fact alleged by Realtek. 89 FR 46158-59 (May 28, 2024). On June 27, 2024, AMD and Realtek filed a joint motion to terminate the modification proceeding based on a June 17, 2024 settlement agreement between AMD and Realtek, attaching thereto as Exhibit B a non-confidential version of the settlement agreement. That same day, Realtek filed a separate correspondence to the Secretary attaching thereto as Exhibit A the unredacted version of the settlement agreement.

On July 5, 2024, the ALJ issued Order No. 78, which (i) ordered AMD and Realtek to “revise and refile the non-confidential version of the agreement required by Commission Rules 210.21(a)(2) and 210.21(b)(1) [19 CFR 210.21(a)(2) and (b)(1)], and in accordance with Commission Rule 201.6 [19 CFR 201.6],” and (ii) stated that the motion to terminate will be ruled upon after the revised non-confidential version of the agreement is refiled. Order No. 78 at 2 (July 5, 2024). On July 12, 2024, in response to Order No. 78, Realtek filed a revised non-confidential version of the subject agreement (Ex. B).

On July 15, 2024, the ALJ issued the subject ID (Order No. 79) granting the joint motion to terminate the modification proceeding. The ALJ found that the motion complies with the requirements of Commission Rule 210.21(b)(1) (19 CFR 210.21(b)(1)), including the submission of confidential and non-confidential versions of the subject agreement in compliance with Commission Rule 201.6 (19 CFR 201.6), and that there is no evidence that terminating the proceeding would be contrary to the public interest in accordance with Commission Rule 210.50(b)(2) (19 CFR 210.50(b)(2)). Order No. 79 at 2 (July 15, 2024). No petitions for review of the subject ID were filed.

The Commission has determined not to review the subject ID. The modification proceeding is terminated.

The Commission vote for this determination took place on August 14, 2024.

The authority for the Commission's determination is contained in section 337 of the Tariff Act of 1930, as amended (19 U.S.C. 1337), and in Part 210 of the Commission's Rules of Practice and Procedure (19 CFR part 210).

By order of the Commission.
Issued: August 14, 2024.
Lisa Barton,
Secretary to the Commission.

[FR Doc. 2024-18582 Filed 8-19-24; 8:45 am]

BILLING CODE 7020-02-P